COMMITTEE FOR THE IMPLEMENTATION OF TEXTILE AGREEMENTS

Determination under the Textile and Apparel Commercial Availability Provision of the Dominican Republic-Central America-United States Free Trade Agreement (CAFTA-DR Agreement)

Correction

In notice document 06-4916 beginning on page 30389 in the issue of Friday, May 26, 2006, make the following correction:

On page 30390, in the second column, under the heading Specifications:, in the third line, “67” should read “67”.

[FR Doc. C6-4916 Filed 6-27-06; 8:45 am]

BILLING CODE 1505-01-D